DEPARTMENT OF COMMERCE

International Trade Administration

[A-570-001]

Potassium Permanganate From the People's Republic of China: Final Results of Antidumping Duty Administrative Review; 2015

AGENCY: Enforcement and Compliance, International Trade Administration, Commerce.

SUMMARY: The Department of Commerce (Department) published the preliminary results of the administrative review of the antidumping duty order on potassium permanganate from the People's Republic of China (PRC) on December 13, 2016. We gave interested parties an opportunity to comment on the Preliminary Results, and based upon our analysis of the comments and information received, we made changes to the margin calculation for these final results. The final dumping margin for the reviewed firm is listed below in the “Final Results of the Administrative Review” section of this notice. The period of review (POR) is January 1, 2015, through December 31, 2015.

DATES: Effective June 20, 2017.

FOR FURTHER INFORMATION CONTACT: Kenneth Hawkins, AD/CVD Operations, Office V, Enforcement and Compliance, International Trade Administration, U.S. Department of Commerce, 1401 Constitution Avenue NW., Washington, DC 20230; telephone 202.482.6491.

SUPPLEMENTARY INFORMATION:

Background

The Department published the Preliminary Results on December 13, 2016.¹ This review covers one respondent, Pacific Accelerator Limited (PAL).² Between January 12 and 17, 2017, PAL and the petitioner, the Carus Corporation, submitted case and rebuttal briefs.³ On April 4, 2017, the Department held a hearing limited to issues raised in the case and rebuttal briefs. On March 30, 2017, in accordance with section 751(a)(3)(A) of the Tariff Act of 1930, as amended (the Act), the Department extended the period for issuing the final results of this review by thirty days, from April 12, 2017 to May 12, 2017. On May 11, 2017, the Department extended the period for issuing the final results of this review a final time for an additional thirty days, from May 12, 2017 to June 12, 2017.⁴

¹ See Potassium Permanganate from the People's Republic of China: Preliminary Results of the 2015 Antidumping Duty Administrative Review, 81 FR 81897 (December 13, 2016) (Preliminary Results).

² See Initiation of Antidumping and Countervailing Duty Administrative Reviews, 81 FR 11179 (March 3, 2015).

³ See PAL's July 12, 2016 submission; Petitioner's July 17, 2016 submission.

⁴ See Notice of Clarification: Application of “Next Business Day” Rule for Administrative Determination Deadlines Pursuant to the Tariff Acto of 1930, As Amended,70 FR 24533 (May 10, 2005).

Scope of the Order

Imports covered by this order are shipments of potassium permanganate, an inorganic chemical produced in free-flowing, technical, and pharmaceutical grades. Potassium permanganate is currently classifiable under item 2841.61.00 of the Harmonized Tariff Schedule of the United States (HTSUS). Although the HTSUS item number is provided for convenience and customs purposes, the written description of the merchandise remains dispositive.

Analysis of Comments Received

All issues raised in the case and rebuttal briefs by parties in this review are addressed in the Issues and Decision Memo (I&D Memo).⁵ A list of the issues which parties raised is attached to this notice as an appendix. The I&D Memo is a public document and is on file in the Central Records Unit (CRU), Room B8024 of the main Department of Commerce building, as well as electronically via Enforcement and Compliance's Antidumping and Countervailing Duty Centralized Electronic Service System (ACCESS). ACCESS is available to registered users at http://access.trade.gov and to all users in the CRU. In addition, a complete version of the I&D Memo can be accessed directly on the Internet at http://enforcement.trade.gov/frn/index.html. The signed I&D Memo and the electronic version are identical in content.

⁵ See Memorandum to Ronald Lorentzen, Assistant Secretary for Enforcement and Compliance, from Gary Taverman, Associate Deputy Assistant Secretary for Antidumping and Countervailing Duty Operations, “Potassium Permanganate from the People's Republic of China: Issues and Decision Memorandum for the Final Results,” dated concurrently with and hereby adopted by this notice (I&D Memo).

Changes Since the Preliminary Results

Based on a review of the record and comments received from interested parties regarding our Preliminary Results, and for the reasons explained in the I&D Memo, we revised the margin calculation for PAL. Specifically, we made adjusted the drum factor of production, and we adjusted PAL's international freight movement expense.

Final Results of the Review

The dumping margins for the final results of this administrative review are as follows:

Exporter | Weighted- average margin (dollars/ kilogram) ⁶
Pacific Accelerator Limited | $0.00

⁶ Consistent with Comment V in the I&D Memo, the Department has determined that it will calculate per-unit assessment and cash deposit rates.

Disclosure

The Department will disclose calculations performed for these final results to the parties within five days of the date of publication of this notice, in accordance with 19 CFR 351.224(b).

Assessment Rates

Pursuant to section 751(a)(2)(A) of the Act and 19 CFR 351.212(b), the Department will determine, and U.S. Customs and Border Protection (CBP) shall assess, antidumping duties on all appropriate entries of subject merchandise in accordance with the final results of this review. The Department intends to issue appropriate assessment instructions directly to CBP 15 days after publication of the final results of this administrative review.

In accordance with 19 CFR 351.212(b)(1), we are calculating importer- (or customer-) specific assessment rates for the merchandise subject to this review. For assessment purposes, we calculated a per-unit rate for each importer (or customer) by dividing the total dumping margins for reviewed sales to that party by the total sales quantity associated with those transactions. We will direct CBP to assess the resulting per-unit rate against the entered quantity of the subject merchandise.⁷ We will instruct CBP to assess antidumping duties on all appropriate entries covered by this review when the importer- (or customer-) specific assessment rate is above de minimis. Where an importer- (or customer-) specific assessment rate is zero or de minimis, we will instruct CBP to liquidate the appropriate entries without regard to antidumping duties.

⁷ See Antidumping Proceedings: Calculation of the Weighted-Average Dumping Margin and Assessment Rate in Certain Antidumping Proceedings: Final Modification, 77 FR 8101, 8103 (February 14, 2012).

Cash Deposit Requirements

The following cash deposit requirements will be effective upon publication of the final results of this administrative review for all shipments of the subject merchandise entered, or withdrawn from warehouse, for consumption on or after the publication date of the final results, as provided for by section 751(a)(2)(C) of the Act: (1) For the exporter listed above, the cash deposit rate will be the rate established in the final results of review; (2) for previously investigated or reviewed PRC and non-PRC exporters not listed above that have separate rates, the cash deposit rate will continue to be the exporter-specific rate published for the most recent period; (3) for all PRC exporters of subject merchandise that have not been found to be entitled to a separate rate, the cash deposit rate will be that for the PRC-wide entity, which is 128.94 percent; ⁸ and (4) for all non-PRC exporters of subject merchandise which have not received their own rate, the cash deposit rate will be the rate applicable to the PRC exporter that supplied that non-PRC exporter. The cash deposit requirements, when imposed, shall remain in effect until further notice.

⁸ See Potassium Permanganate from the People's Republic of China; Final Results of Antidumping Duty Administrative Review, 59 FR 26625 (May 23, 1994).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties occurred and the subsequent assessment of doubled antidumping duties.

Notification Regarding Administrative Protective Order

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this administrative review and notice in accordance with sections 751(a)(l) and 777(i) of the Act.

Dated: June 12, 2017.
Ronald K. Lorentzen,
Acting Assistant Secretary for Enforcement and Compliance.

Appendix

List of Topics Discussed in the Final Decision Memorandum

Summary

Case Issues

Background

Scope of the Order

Discussion of the Issues

Comment I International Movement Expenses

Comment II Brokerage and Handling and Truck Freight Calculations

Comment III Marine Insurance Calculation

Comment IV Application of Rail Expense

Comment V Currency Conversion

Comment VI Drum FOP

Comment VII Valuation of Manganese Dioxidee

Comment VIII Deduction of VAT

Recommendation

[FR Doc. 2017-12822 Filed 6-19-17; 8:45 am]

BILLING CODE 3510-DS-P